DEPARTMENT OF HEALTH AND HUMAN SERVICES

National Institutes of Health

Government-Owned Inventions; Availability for Licensing

AGENCY: National Institutes of Health, Public Health Service, DHHS.

ACTION: Notice.

SUMMARY: The inventions listed below are owned by agencies of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

HGC-1, A Gene Encoding a Member of the Olfactomedin-Related Protein Family

Griffin P. Rodgers, Wen-Li Liu, Jiachang Zhang (NIDDK)

DHHS Reference No. E-166-01/0 filed 07 Dec 2001

Licensing Contact: Kai Chen; 301/496-7736 ext. 247; e-mail: chenk@od.nih.gov

The current technology embodies a newly identified gene, Human Granulocyte Colony-Stimulating Factor-Stimulated-Clone-1 (hGC-1), that has been cloned and characterized, and its protein sequence has been deduced. The gene is expressed in the bone marrow, prostate, small intestine, colon, and stomach, and has been mapped to chromosome 13 in a region that contains a tumor suppressor gene cluster. The gene is found to be selectively present in normal human myeloid lineage cells and is believed to play a role in allowing lymphocytes to differentiate properly. It is believed that the gene may be used as a selective marker for human prostate cancer, multiple myeloma, B-cell chronic lymphocytic leukemia and other types of cancer and can be used diagnostically as well as in therapeutic screening activities.

Mitochondrial Topoisomerase I

Yves Pommier and Hong-Liang Zhang (NCI)

DHHS Reference No. E-099-01/0 filed 16 Feb 2001

Licensing Contact: Matthew Kiser; 301/496-7056 ext. 224; e-mail: kiserm@od.nih.gov

The subject technology is an isolated or purified nucleic acid molecule consisting essentially of a nucleotide sequence encoding mitochondrial topoisomerase I (top1mt), a variant top1mt, or a fragment of either of the foregoing, an isolated or purified nucleic acid molecule consisting essentially of a nucleotide sequence that is complementary to a nucleotide sequence encoding top1mt, a variant top1mt, or a fragment of either of the foregoing, a vector comprising such an isolated or purified nucleic acid molecule, a cell comprising such a vector, an isolated or purified polypeptide molecule consisting essentially of an amino acid sequence encoding top1mt or a variant top1mt, a conjugate comprising such an isolated or purified polypeptide molecule and a cell-surface targeting moiety, a hybridoma cell line that produces a monoclonal antibody that is specific for an aforementioned isolated or purified polypeptide molecule, the monoclonal antibody produced by the hybridoma cell line, a polyclonal antiserum raised against an aforementioned isolated or purified polypeptide molecule, a method of altering the level of top1mt in a cell, and a method of identifying an inhibitor or an activator of top 1 mt.

Dated: January 17, 2002.
Jack Spiegel,
Director, Division of Technology Development and Transfer, Office of Technology Transfer, National Institutes of Health.

[FR Doc. 02-2030 Filed 1-25-02; 8:45 am]

BILLING CODE 4140-01-P